DEPARTMENT OF STATE

[Public Notice 5349]

60-Day Notice of Information Collection: DS-3013, Application Under the Hague Convention on the Civil Aspects of International Child Abduction, OMB-1405-0076

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application Under the Hague Convention on the Civil Aspects of International Child Abduction.

• OMB Control No: 1405-0076.

• Type of Request: Revision of a Currently Approved Collection.

• Originating Office: Bureau of Consular Affairs. CA/OCS/CI.

• Form Number: DS-3013.

• Respondents: Individuals.

• Estimated Number of Respondents: 500 per year.

• Average Hours Per Response: 1 hour.

• Total Estimated Burden: 500 hours.

• Frequency: On occasion.

• Obligation to Respond: Required to Obtain or Retain a Benefit.

DATES: The Department will accept comments from the public up to 60 days from March 24, 2006.

ADDRESSES: You may submit comments by any of the following methods:

• E-mail: cholisms@state.gov.

• Mail (paper, disk, or CD-ROM submissions): Margaret Cholis, CA/OCS/CI, U.S. Department of State, Washington, DC 20520-4818.

• Fax: 202-736-9133.

• Hand delivery or Courier: Margaret Cholis, CA/OCS/CI, 4th floor, 2100 Pennsylvania Ave. NW., Washington, DC 20037.

You must include the DS form number, information collection title, and OMB control number in any correspondence.

FOR FURTHER INFORMATION CONTACT: Direct requests for additional information regarding the collection listed in this notice, including requests for copies of the proposed information collection and supporting documents, to Margaret Cholis, CA/OCS/CI, U.S. Department of State, Washington, DC 20520-4818, who may be reached on 202-736-9157 or via email at CholisMS@state.gov.

SUPPLEMENTARY INFORMATION: We are soliciting public comments to permit the Department to:

• Evaluate whether the proposed information collection is necessary for the proper performance of the Department's functions as the Central Authority.

• Evaluate the accuracy of the agency's estimate of the burden of the proposed collection, including the validity of the methodology and assumptions used.

• Enhance the quality, utility, and clarity of the information to be collected.

• Minimize the reporting burden on those who are to respond, including through the use of automated collection techniques or other forms of technology.

Abstract of Proposed Collection

The Application Under the Hague Convention on the Civil Aspects of International Child Abduction (DS-3013) is used by parents or legal guardians who are asking the State Department's assistance in seeking the return of, or access to, a child/ or children alleged to be wrongfully removed from or retained outside of the child's habitual residence and currently located in another country that is also party to the Hague Convention on the Civil Aspects of International Child Abduction (Contracting State). The application requests information regarding the identities of the applicant, the child or children, and the person alleged to have wrongfully removed or retained the child or children. In addition, the application requires that the applicant provide the circumstances of the alleged wrongful removal or retention and the legal justification for the request for return or access. The State Department, as the U.S. Central Authority, uses this information to establish, if possible, the applicants' claims under the Convention; to advise applicants about available remedies under the Convention; and to provide the information necessary to the foreign Central Authority in its efforts to locate the child or children, and to facilitate return of or access to the child or children pursuant to the Convention.

Methodology

The CA/OCS/CI contact collects the necessary information via mail, fax, or electronic submission.

Dated: March 6, 2006.
Catherine Barry,
Deputy Assistant Secretary, Consular Affairs, Overseas Citizens Services, Department of State.

[FR Doc. E6-4317 Filed 3-23-06; 8:45 am]

BILLING CODE 4710-06-P